DEPARTMENT OF HEALTH AND HUMAN SERVICES

Food and Drug Administration

[Docket No. FDA-2010-N-0001]

Request for Nominations for Voting Members on a Public Advisory Committee; Science Board to the Food and Drug Administration

AGENCY: Food and Drug Administration, HHS.

ACTION: Notice.

SUMMARY: The Food and Drug Administration (FDA) is requesting nominations for voting members to serve on the Science Board to FDA, Office of the Commissioner, Office of Chief Scientist.

FDA has a special interest in ensuring that women, minority groups, and individuals with disabilities are adequately represented on advisory committees and, therefore, encourages nominations of qualified candidates from these groups.

DATES: Nominations received by November 19, 2010, will be given first consideration for membership on the Science Board. Nominations received after November 19, 2010, will be considered for nomination to the committee should nominees still be needed.

ADDRESSES: All nominations for membership should be sent electronically to CV@FDA.HHS.GOV, or by mail to Advisory Committee Oversight and Management Staff, 10903 New Hampshire Ave., Bldg. 32, Rm. 5103, Silver Spring, MD 20993-0002. Information about becoming a member on an FDA advisory committee can also be obtained by visiting FDA's Web site at http://www.fda.gov/oc/advisory/default.htm.

FOR FURTHER INFORMATION CONTACT: Regarding all nomination questions for membership: Donna L. Mentch, Office of the Commissioner, Food and Drug Administration, 10903 New Hampshire Ave., Bldg. 32, Rm. 4203, Silver Spring, MD 20993-0002, 301-796-8523, FAX: 301-847-8617, donna.mentch@fda.hhs.gov.

SUPPLEMENTARY INFORMATION: FDA is requesting nominations for voting members on the Science Board to FDA.

I. General Function of the Committee

The Science Board shall provide advice primarily to the Commissioner of FDA (the Commissioner) and other appropriate officials on specific complex and technical issues as well as emerging issues within the scientific community. Additionally, the Science Board will provide advice to the Agency on keeping pace with technical and scientific evolutions in the fields of regulatory science, on formulating an appropriate research agenda, and on upgrading its scientific and research facilities to keep pace with these changes. It will also provide the means for critical review of Agency sponsored intramural and extramural scientific research programs.

II. Criteria for Voting Members

FDA is requesting nominations of voting members with appropriate expertise in the following fields of food safety, nutrition, chemistry, pharmacology, toxicology, clinical research, epidemiology, product safety, product manufacturing sciences and quality or other scientific areas relevant to FDA regulated products such as systems biology, bioinformatics, wireless health care devices, nanotechnology, and combination products. Members shall be chosen from academia and industry. The Science Board may include one technically qualified member, selected by the Commissioner or designee, who is identified with consumer interests and is recommended by either a consortium of consumer-oriented organizations or other interested persons. The Science Board may also include technically qualified Federal members.

III. Nomination Procedures

Any interested person may nominate one or more qualified persons for membership on the Science Board. Self-nominations are also accepted. Nominations must include a current, complete resume or curriculum vitae for each nominee, current business and/or home address, telephone number, and email address if available. Nominations must specify the advisory committee for which the nominee is recommended. Nominations must also acknowledge that the nominee is aware of the nomination, unless self-nominated. FDA will ask potential candidates to provide detailed information concerning such matters as financial holdings, employment, and research grants and/or contracts.

This notice is issued under the Federal Advisory Committee Act (5 U.S.C. app. 2) and 21 CFR part 14 relating to advisory committees.

Dated: October 15, 2010.
Jill Hartzler Warner,
Acting Associate Commissioner for Special Medical Programs.

[FR Doc. 2010-26400 Filed 10-19-10; 8:45 am]

BILLING CODE 4160-01-P